DEPARTMENT OF THE TREASURY

Internal Revenue Service

26 CFR Part 1

[TD 9515]

RIN 1545-BH20

Guidance Under Section 1502; Amendment of Matching Rule for Certain Gains on Member Stock

Correction

In rule document 2011-4846 appearing on pages 11956-11959 in the issue of Friday, March 4, 2011, make the following corrections:

1. On page 11956, in the third column, under the Background heading, in the third line, “See” should read “See”.

2. On page 11957, in the first column, in the sixth line from the top, “See” should read “See”.

PART 1—[CORRECTED]

3. On page 11958, in the first column, in the fourth line, in amendatory instruction 3., “Paragraph (c)(7(iii)” should read “Paragraph (c)(7)(iii)”.

§ 1.1502-13 [Corrected]

4. On the same page, in § 1.502-13(c)(7)(ii), in Example 16(b), in the third column, in the 36th line, “See” should read “See”.

5. On the same page, in § 1.502-13(c)(7)(ii), in Example 17(b), in the third column, in the fourth line from the bottom, “See” should read “See”.

6. On page 11959, in § 1.502-13(c)(7)(ii), in Example 17(b), in the first column, in the 16th line from the top, “See” should read “See”.

7. On the same page, in § 1.502-13(c)(7)(iii)(B), in the first column, in the third line, “see” should read “see”.

8. On the same page, in § 1.502-13(c)(7)(iii)(B), in the first column, in the seventh line, “see” should read “see”.

§ 1.502-13T [Corrected]

9. On the same page, in § 1.502-13T(a), in the first column, in the second line, “see” should read “see”.

10. On the same page, in § 1.502-13T(a)(B)(2), in the second column, in the 14th line, “see” should read “see”.

11. On the same page, in § 1.502-13T, in the second column, in paragraph (f)(5)(ii)(B)(3) through (f)(5)(ii)(E), in the second line, “see” should read “see”.

12. On the same page, in § 1.502-13T(a)(F)(2), in the second column, in the third line, “see” should read “see”.

[FR Doc. C1-2011-4846 Filed 4-12-11; 8:45 am]

BILLING CODE 1505-01-D